DEPARTMENT OF ENERGY

Federal Energy Regulatory Commission

[Project No. 1390-040-CA]

Southern California Edison Company; Notice of Availability of Environmental Assessment

May 19, 2006.

In accordance with the National Environmental Policy Act of 1969 and the Federal Energy Regulatory Commission's Regulations, 18 CFR Part 380 (Order No. 486, 52 FR 47879), the Office of Energy Projects has reviewed the Offer of Settlement (Settlement) filed on February 4, 2005, including proposed amended license conditions for the Lundy Hydroelectric Project, located on Mill Creek in Mono County, near the town of Lee Vining and has prepared an Environmental Assessment (EA) for the proposed amendment.

The EA contains our analysis of the potential effects of the existing project and concludes that amending the project license in accordance with the Settlement as modified by staff would not constitute a major federal action significantly affecting the quality of the human environment.

A copy of the EA is on file with the Commission and is available for public inspection at the Commission in the Public Reference Room. The EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

Any comments should be filed within 30 days from the issuance date of this notice, and should be addressed to the Secretary, Federal Energy Regulatory Commission, 888 First Street, NE., Room 1-A, Washington, DC 20426. Please affix “Lundy Hydroelectric Project No. 1390” to all comments. Comments may be filed electronically via Internet in lieu of paper. The Commission strongly encourages electronic filings. See 18 CFR 385.2001(a)(1)(iii) and the instructions on the Commission's Web site under the “eFiling” link. For further information, contact John Smith at (202) 502-8972 or by e-mail at john.smith@ferc.gov.

Magalie R. Salas,
Secretary.

[FR Doc. E6-8025 Filed 5-24-06; 8:45 am]

BILLING CODE 6717-01-P